SECURITIES AND EXCHANGE COMMISSION

[File No. 1-13098]

Issuer Delisting; Notice of Application To Withdraw From Listing and Registration on the New York Stock Exchange, Inc. (Case, LLC (Formerly Case Corporation), 7¼% Notes (Due 2016))

January 8, 2003.

Case, LLC (formerly Case Corporation), a limited liability company organized under the laws of the State of Delaware (“Issuer”), has filed an application with the Securities and Exchange Commission (“Commission”), pursuant to section 12(d) of the Securities Exchange Act of 1934 (“Act”)¹ and Rule 12d2-2(d) thereunder,² to withdraw its 7¼% Notes (due 2016)(“Security”), from listing and registration on the New York Stock Exchange, Inc. (“NYSE” or “Exchange”).

¹ 15 U.S.C. 78l(d).

² 17 CFR 240.12d2-2(d).

Fiatallis North America, Inc., the sole Member of the Issuer (“Sole Member”) approved a resolution on November 29, 2002 to withdraw the Issuer's Security from listing on the NYSE. In making its decision to withdraw the Issuer's Security from the Exchange, the Sole Member noted the following: (i) The Security is held by a limited number of registered holders; (ii) the Security trades infrequently on the NYSE and the Issuer does not anticipate that such trading volume might increase appreciably; (iii) the costs associated with the continued listing of the Security are disproportionately high, given the limited trading volume; (iv) the Issuer is not obligated by the terms of the indenture under which the Security was issued or by any other document to maintain a listing for the Security on the NYSE or any other exchange; (v) the Issuer believes that delisting the Security will not have a material impact on the holders of the Security and; (vi) the Security is not listed on any other exchange. The Issuer has been informed that a number of investment banks are market markers in the Security.

The Issuer stated in its application that it has met the requirements of the NYSE rules governing an issuer's voluntary withdrawal of a security from listing and registration. The Issuer's application relates solely to the Security's withdrawal from listing on the NYSE and from registration under section 12(b) of the Act ³ and shall not affect its obligation to be registered under Section 12(g) of the Act.⁴

Any interested person may, on or before January 31, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

³ 15 U.S.C. 78l(b).

⁴ 15 U.S.C. 78l(g).

For the Commission, by the Division of Market Regulation, pursuant to delegated authority.⁵
⁵ 17 CFR 200.30-3(a)(1).
Jonathan G. Katz,
Secretary.

[FR Doc. 03-692 Filed 1-13-03; 8:45 am]

BILLING CODE 8010-01-P